DEPARTMENT OF THE TREASURY

Office of the Comptroller of the Currency

Proposed Information Collection; Submission for OMB Review

AGENCY: Office of the Comptroller of the Currency (OCC), Treasury.

ACTION: Notice and request for comment.

SUMMARY: The OCC, as part of its continuing effort to reduce paperwork and respondent burden, invites the general public and other Federal agencies to take this opportunity to comment on a continuing information collection, as required by the Paperwork Reduction Act of 1995. Currently, the OCC is soliciting comment concerning a renewal of an existing collection titled “Electronic Operations.” The OCC also is giving notice that the collection has been submitted to OMB for review.

DATES: You should submit written comments by: November 7, 2011.

ADDRESSES: You should direct all written comments to: Communications Division, Office of the Comptroller of the Currency, Mailstop 2-3, Attention: 1557-0301, 250 E Street, SW., Washington, DC 20219. In addition, comments may be sent by fax to (202) 874-5274, or by electronic mail to regs.comments@occ.treas.gov. You can inspect and photocopy the comments at the OCC, 250 E Street, SW., Washington, DC 20219. You can make an appointment to inspect the comments by calling (202) 874-5043. For security reasons, the OCC requires that visitors make an appointment to inspect comments. You may do so by calling (202) 874-4700. Upon arrival, visitors will be required to present valid government-issued photo identification and to submit to security screening in order to inspect and photocopy comments.

Additionally, you should send a copy of your comments to OCC Desk Officer, 1557-0301, by mail to U.S. Office of Management and Budget, 725 17th Street, NW., #10235, Washington, DC 20503, or by fax to (202) 395-6974.

FOR FURTHER INFORMATION CONTACT: You can request additional information or a copy of the collection from Ira L. Mills, (202) 874-6055, Legislative and Regulatory Activities Division (1557-0202), Office of the Comptroller of the Currency, 250 E Street, SW., Washington, DC 20219.

SUPPLEMENTARY INFORMATION:

The OCC is requesting comment on the following information collection:

Title: Electronic Operations.

OMB Control No.: 1557-0301.

Description: On July 21, 2010, President Barack Obama signed into law the Dodd-Frank Wall Street Reform and Consumer Protection Act, Public Law 111-203, 124 Stat. 1376 (2010) (Dodd-Frank Act). As part of the comprehensive package of financial regulatory reform measures enacted, Title III of the Dodd-Frank Act provides for the transfer of the powers, authorities, rights and duties of the Office of Thrift Supervision (OTS) to other banking agencies, including the OCC, as of the transfer date, July 21, 2011. The Dodd-Frank Act also abolishes the OTS ninety days after the transfer date. As a result of these transfers under the Dodd-Frank Act, the OCC is transferring the burden from OTS's Electronic Operations collection (OMB Control Nos. 1550-0095) to this collection.

This information collection facilitates the OCC's ability to identify industry technology trends and better understand emerging technologies. The information is collected transactionally, and is used to ensure that safety and soundness requirements are being met.

Type of Review: Regular.

Affected Public: Businesses or other for-profit.

Number of Respondents: 9.

Total Annual Responses: 9.

Frequency of Response: On occasion.

Total Annual Burden Hours: 18.

An agency may not conduct or sponsor, and a respondent is not required to respond to, an information collection unless the information collection displays a currently valid OMB control number. On July 19, 2011, the OTS issued a notice with a 60-day comment period (76 FR 42768). No comments were received. Comments continue to be invited on:

(a) Whether the collection of information is necessary for the proper performance of the functions of the agency, including whether the information shall have practical utility;

(b) The accuracy of the agency's estimate of the burden of the collection of information;

(c) Ways to enhance the quality, utility, and clarity of the information to be collected;

(d) Ways to minimize the burden of the collection on respondents, including through the use of automated collection techniques or other forms of information technology; and

(e) Estimates of capital or start-up costs and costs of operation, maintenance, and purchase of services to provide information.

Dated: October 3, 2011.
Michele Meyer,
Assistant Director, Legislative & Regulatory Activities Division.

[FR Doc. 2011-26012 Filed 10-6-11; 8:45 am]

BILLING CODE 4810-33-P